COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 9/24/2012.

ADDRESSES: Committee for Purchase From People Who Are Blind or Severely Disabled, Jefferson Plaza 2, Suite 10800, 1421 Jefferson Davis Highway, Arlington, Virginia 22202-3259.

FOR FURTHER INFORMATION CONTACT: Patricia Briscoe, Telephone: (703) 603-7740, Fax: (703) 603-0655, or email CMTEFedReg@AbilityOne.gov.

SUPPLEMENTARY INFORMATION:

Additions

On 5/25/2012 (77 FR 31335-31336) and 6/29/2012 (77 FR 38775-38776), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN: 8415-MD-001-0268—Sack, Compression Stuff, Extreme Cold Weather (ECW CSS) U.S. Marine Corps, One size fits all

NPA: The Lighthouse for the Blind, Inc. (Seattle Lighthouse), Seattle, WA

Contracting Activity: Dept of the Army, W6QK ACC-APG Natick, Natick, MA

Coverage: C-List for 100% of the requirement of the U.S. Marine Corps, as aggregated by the Army Contracting Command—Aberdeen Proving Ground, Natick Contracting Division, Natick, MA.

NSN: 8950-01-E61-8129—Spice, Oregano Leaf, Whole, 6/5 oz Containers

NSN: 8950-01-E61-8133—Spice, Oregano Leaf, Whole, 3/24 oz Containers

NSN: 8950-01-E61-0664—Spice, Thyme, Ground, 6/12 oz Containers

NSN: 8950-01-E61-8136—Spice, Thyme, Leaf, Whole, 6/6 oz Containers

NSN: 8950-01-E62-2182—Spice, Basil, Leaf, Whole 3/1.62 lb Containers

NSN: 8950-01-E60-9314—Spice, Basil, Ground, 6/12 oz Containers

NSN: 8950-01-E60-9311—Spice, Blend, Poultry, 6/12 oz Containers

NSN: 8950-01-E62-0115—Spice, Blend, Curry, Powder, No MSG, 6/16 oz Containers

NSN: 8950-01-E62-0116—Spice, Blend, Santa Fe, 6/16 oz Containers

NSN: 8950-01-E62-2187—Spice, Onion, Granulated, 6/18 oz Containers

NSN: 8950-01-E62-0149—Spice, Bay Leaf, Whole, 6/2 oz Containers

NSN: 8950-00-NSH-0234—Spice, Blend, Cajun, 6/22 oz Containers

NSN: 8950-01-E61-6697—Spice, Blend, Italian Seasoning, 6/6.25 oz Containers

NSN: 8950-01-E62-2190—Spice, Blend, Italian Seasoning, 3/28 oz Containers

NSN: 8950-01-E62-2191—Spice, Pepper, Red, Crushed, 3/3.25 lb Containers

NPA: CDS Monarch, Webster, NY

Contracting Activity: Defense Logistics Agency Troop Support, Philadelphia, PA

Coverage: C-List for 100% of the requirement of the Department of Defense, as aggregated by the Defense Logistics Agency Troop Support, Philadelphia, PA.

Services

Service Type/Locations: Operation Support Service, Aberdeen Proving Ground, MD, National Ground Intelligence Center (NGIC), Rivanna Station Complex, 2055 Boulders Road, Charlottesville, VA

NPA: The Chimes, Inc., Baltimore, MD

Contracting Activity: Dept of the Army, 0002 MI CTR Contract DODAAC, Charlottesville, VA

Service Type/Location: Mess Attendant Services, 121st Air Refueling Wing, 7370 Minuteman Way, Redtail Dining Facility, Bldg. 917, Columbus, OH

NPA: First Capital Enterprises, Inc., Chillicothe, OH

Contracting Activity: Dept of the Army, W7NU USPFO Activity OH ARNG, Columbus, OH

Service Type/Location: Management of State Department High Threat Division Kit, Department of State High Threat Division (Off-site: Virginia Industries for the Blind, Charlottesville, VA), 2216 Gallows Road, Dunn Loring, VA

NPA: Virginia Industries for the Blind, Charlottesville, VA

Contracting Activity: Department of State, DS Office of Acquisition MGMT, Arlington, VA

Patricia Briscoe,
Deputy Director, Business Operations, (Pricing and Information Management).

[FR Doc. 2012-20844 Filed 8-23-12; 8:45 am]

BILLING CODE 6353-01-P